Proclamation 8820 of May 14, 2012

National Women’s Health Week, 2012

By the President of the United States of America

A Proclamation

Women have guided our country toward prosperity and progress, and our Nation’s success depends on their well-being. While women often play a leading role in making medical decisions for their families, their own health care needs have too often gone unmet. During National Women’s Health Week, we recommit to making health care more accessible and affordable for women across our country.

As President, I have made advancing gender equality in health care a top priority. Through the historic Affordable Care Act, we are reversing many of the worst abuses of the health insurance industry. Beginning in 2014, many insurers will no longer be allowed to charge women higher premiums simply because of their gender, and it will be illegal for most insurance companies to deny coverage to women because they have a pre-existing condition, including cancer or pregnancy. Health plans will also be required to cover maternity care. The law already enables women in new insurance plans to see any primary care provider or OB-GYN, or bring their children to any pediatrician in their health plan’s network without a referral, and it prevents most insurance companies from denying coverage to children with pre-existing conditions.

My Administration has fought to make preventive care accessible to all. Under the Affordable Care Act, we eliminated out-of-pocket costs for recommended preventive services such as mammograms, cervical cancer screenings, contraception, and well-woman visits under most plans. In 2011 alone, more than 20 million women received expanded access to these services at no additional cost.

National Women’s Health Week presents an opportunity for all women to prioritize their well-being by scheduling annual check-ups and screenings. To find more information on women’s preventive care, visit www.WomensHealth.gov or www.GirlsHealth.gov.

As we celebrate the progress we have made, we recognize that American families cannot afford a return to the days when women were over-charged and denied access to critical services. During National Women’s Health Week, let us move forward in pursuit of a fairer, healthier America.

NOW, THEREFORE, I, BARACK OBAMA, President of the United States of America, by virtue of the authority vested in me by the Constitution and the laws of the United States, do hereby proclaim May 13 through May 19, 2012, as National Women’s Health Week. I encourage all Americans to celebrate the progress we have made in protecting women’s health and to promote awareness, prevention, and educational activities that improve the health of all women.

IN WITNESS WHEREOF, I have hereunto set my hand this fourteenth day of May, in the year of our Lord two thousand twelve, and of the Independence of the United States of America the two hundred and thirty-sixth.

[FR Doc. 2012-12222

Filed 5-17-12; 8:45 am]

Billing code 3295-F2-P